MEDICARE PAYMENT ADVISORY COMMISSION

Commission Meeting

AGENCY: Medicare Payment Advisory Commission.

ACTION: Notice of meeting.

SUMMARY: The Commission will hold its next public meeting on Thursday, March 18, 2004, and Friday, March 19, 2004, at the Ronald Reagan Building, International Trade Center, 1300 Pennsylvania Avenue, NW., Washington, DC. The meeting is tentatively scheduled to begin at 9:30 a.m. on March 18, and at 9 a.m. on March 19.

Topics for discussion include: Long-term care hospitals; the Medicare hospice program; information technology in healthcare; issues related to hospital-based and freestanding skilled nursing facilities; chronic care improvement; beneficiaries' financial liability; private insurers' strategies for purchasing imaging and other services; prescription drug implementation issues; and the Medicare dual eligible population. The Commission will also discuss work plans for two congressionally mandated reports on the usefulness of the IRS Form 990 in reporting on hospitals' access to capital and an assessment of the strengths and weaknesses of available data to judge total financial circumstances of hospitals and other providers of Medicare services.

Agendas will be e-mailed approximately one week prior to the meeting. The final agenda will be available on the Commission's Web site (www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller,
Executive Director.

[FR Doc. 04-5161 Filed 3-5-04; 8:45 am]

BILLING CODE 6820-BW-M